DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2022, through January 31, 2022. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Christopher Bost, Hamburg, Pennsylvania, Court of Federal Claims No: 22-0001V

2. Alexander Lau, Pittsburgh, Pennsylvania, Court of Federal Claims No: 22-0002V

3. Brian Peterson, Phoenix, Arizona, Court of Federal Claims No: 22-0007V

4. Elizabeth Cantrell, Nashville, Tennessee, Court of Federal Claims No: 22-0008V

5. Mark Bezzek, Sanford, North Carolina, Court of Federal Claims No: 22-0009V

6. Elaina Bouw, Phoenix, Arizona, Court of Federal Claims No: 22-0011V

7. William Rash, Tewksbury, Massachusetts, Court of Federal Claims No: 22-0012V

8. Daniel Tetting, St. Paul, Minnesota, Court of Federal Claims No: 22-0016V

9. Joseph Karam, Portland, Oregon, Court of Federal Claims No: 22-0017V

10. Molly Converse, San Antonio, Texas, Court of Federal Claims No: 22-0019V

11. Miriam San Pedro, Reseda, California, Court of Federal Claims No: 22-0022V

12. Michael Cascio, Charleston, South Carolina, Court of Federal Claims No: 22-0024V

13. Melissa Ogea, Phoenix, Arizona, Court of Federal Claims No: 22-0025V

14. Albert Miller, Kinder, Louisiana, Court of Federal Claims No: 22-0026V

15. Gary W. Cobb, Portland, Oregon, Court of Federal Claims No: 22-0028V

16. Monica Reid, Largo, Maryland, Court of Federal Claims No: 22-0029V

17. Jacqueline Nyarko, Houston, Texas, Court of Federal Claims No: 22-0030V

18. Beverly Luckner and Margaret Sutto on behalf of the Estate of Eleanor Vlack, Deceased, Venice, Florida, Court of Federal Claims No: 22-0031V

19. China Cicarelli, New York, New York, Court of Federal Claims No: 22-0032V

20. Sherry McNey, Loma Linda, California, Court of Federal Claims No: 22-0034V

21. Jon Tulloch, Brewster, Massachusetts, Court of Federal Claims No: 22-0035V

22. Caleb Savoie, Metairie, Louisiana, Court of Federal Claims No: 22-0037V

23. Kimberly Pendleton, East Norriton, Pennsylvania, Court of Federal Claims No: 22-0039V

24. Kathleen Trusko, Philadelphia, Pennsylvania, Court of Federal Claims No: 22-0042V

25. Brianna Aguilar, Omaha, Nebraska, Court of Federal Claims No: 22-0043V

26. Catherine Gabel, Baker, Louisiana, Court of Federal Claims No: 22-0044V

27. Jill Gardner, Henderson, Nevada, Court of Federal Claims No: 22-0045V

28. Scott Barber, Wellesley, Massachusetts, Court of Federal Claims No: 22-0050V

29. Ewa Konik and Roman Juengling on behalf of M. K., Sioux Falls, South Dakota, Court of Federal Claims No: 22-0051V

30. Denise Watts, Petal, Mississippi, Court of Federal Claims No: 22-0054V

31. Edith Purcell, Somerset, Kentucky, Court of Federal Claims No: 22-0055V

32. Ellsworth Ramsdell, Keizer, Oregon, Court of Federal Claims No: 22-0057V

33. Ryan Nelson and Hollie Nelson on behalf of D. N., Pocatello, Idaho, Court of Federal Claims No: 22-0063V

34. Fay M. Haas, Beachwood, Ohio, Court of Federal Claims No: 22-0065V

35. Lanette Jackson, Suwanee, Georgia, Court of Federal Claims No: 22-0066V

36. Sandra Canales, Merritt Island, Florida, Court of Federal Claims No: 22-0067V

37. Deborah Derrick, Benton, Pennsylvania, Court of Federal Claims No: 22-0068V

38. Jennifer Beretta, Salinas, California, Court of Federal Claims No: 22-0069V

39. Sharon Bailey, Waterville, Ohio, Court of Federal Claims No: 22-0070V

40. Dianne Somerville, Lehigh Acres, Florida, Court of Federal Claims No: 22-0071V

41. Ashley Middleton, Charlotte, North Carolina, Court of Federal Claims No: 22-0073V

42. Deborah Scott, Phoenix, Arizona, Court of Federal Claims No: 22-0074V

43. Andre D. Robinson, Boscobel, Wisconsin, Court of Federal Claims No: 22-0075V

44. Jodi Fields, Florence, Kentucky, Court of Federal Claims No: 22-0076V

45. Tamara Defonzo on behalf of C.S., Phoenix, Arizona, Court of Federal Claims No: 22-0077V

46. Robert Phoneprasith, Plymouth, Wisconsin, Court of Federal Claims No: 22-0079V

47. Jonnie Brown, Gainesville, Georgia, Court of Federal Claims No: 22-0080V

48. Alfred Marshall, Corona, California, Court of Federal Claims No: 22-0081V

49. Audrey Smith on behalf of the Estate of Larry Smith, Deceased, Bagley, Minnesota, Court of Federal Claims No: 22-0082V

50. Peter Evan Kenseth, Richmond, Virginia, Court of Federal Claims No: 22-0084V

51. Kelly Wicoff on behalf of the Estate of Randolph Kester, Seattle, Washington, Court of Federal Claims No: 22-0085V

52. Samantha Klagenberg and Brandon Klagenberg on behalf of M.K., Phoenix, Arizona, Court of Federal Claims No: 22-0086V

53. Melissa Bartlett, Woodbridge, Illinois, Court of Federal Claims No: 22-0087V

54. Christina Cordell on behalf of H.C., Phoenix, Arizona, Court of Federal Claims No: 22-0088V

55. Jolene Wiltz, Sabetha, Kansas, Court of Federal Claims No: 22-0089V

56. Rebecca Sullivan on behalf of A.S., Phoenix, Arizona, Court of Federal Claims No: 22-0091V

57. Vincent Mancuso, Woodbridge, Illinois, Court of Federal Claims No: 22-0093V

58. Rae Rowe, Beaver, Pennsylvania, Court of Federal Claims No: 22-0094V

59. Colleen Holveck, Avondale, Pennsylvania, Court of Federal Claims No: 22-0095V

60. Geoffrey Donaldson, Millerton, New York, Court of Federal Claims No: 22-0096V

[FR Doc. 2022-04476 Filed 3-2-22; 8:45 am]

BILLING CODE 4165-15-P